DEPARTMENT OF AGRICULTURE

Food Safety and Inspection Service

[Docket No. FSIS-2011-0022]

Codex Alimentarius Commission: Meeting of the Codex Committee on Nutrition and Foods for Special Dietary Uses

AGENCY: Office of the Under Secretary for Food Safety, USDA.

ACTION: Notice of public meeting and request for comments.

SUMMARY: The Office of the Under Secretary for Food Safety, U.S. Department of Agriculture (USDA), and the Food and Drug Administration (FDA), are sponsoring a public meeting on October 20, 2011. The objective of the public meeting is to provide information and receive public comments on agenda items and draft United States (U.S.) positions that will be discussed at the 33rd Session of the Codex Committee on Nutrition and Foods for Special Dietary Uses (CCNFSDU)of the Codex Alimentarius Commission (Codex), which will be held in Bad Soden am Taunus, Germany from November 14-18, 2011. In addition, two working groups will meet on November 12 from 9 a.m. to 5:30 p.m. to discuss the Proposed Draft Revision of the Guidelines on Formulated Supplementary Foods for Older Infants and Young Children, and the Proposed Draft Revision of the Codex General Principles for the Addition of Essential Nutrients to Foods.

The Under Secretary for Food Safety and the FDA recognize the importance of providing interested parties the opportunity to obtain background information on the 33rd Session of the CCNFSDU and to address items on the agenda.

DATES: The public meeting is scheduled for October 20, 2011 from 1 p.m.-4 p.m.

ADDRESSES: The public meeting will be held in the Harvey Wiley Building, FDA, Center for Food Safety and Applied Nutrition, (CFSAN), 5100 Paint Branch Parkway, Room (1A-003) College Park, MD 20740. Parking is adjacent to this building and will be available at no charge to individuals who preregister by the date below (See Pre-Registration). In addition, the College Park metro station is across the street.

Documents related to the 33rd Session of the CCNFSDU will be accessible via the World Wide Web at the following address: http://www.codexalimentarius.net/current.asp.

Barbara Schneeman, U.S. Delegate to the 33rd Session of the CCNFSDU, invites U.S. interested parties to submit their comments electronically to the following e-mail address: CCNFSDU@fda.hhs.gov.

Pre-Registration: To pre-register for this meeting, please send the following information to this e-mail address (nancy.crane@fda.hhs.gov) by October 13, 2011.

—Your name

—Organization

—Mailing Address

—Phone number

—E-mail address

Call-In Number

If you wish to participate in the public meeting for the 33rd Session of the CCNFSDU by conference call, please use call-in number and participant code listed below.

Call-in Number: 1-866-859-5767

Participant Code: 2225276

For Further Information About the 33rd Session of the CCNFSDU Contact: Nancy Crane, Senior Advisor to the U.S. CCNFSDU Delegate, Office of Nutrition, Labeling and Dietary Supplements, CFSAN (HFS-830), FDA, 5100 Paint Branch Parkway, College Park, MD 20740, telephone: (240) 402-1450, fax: (301) 436-2636, e-mail: Nancy.Crane@fda.hhs.gov.

For Further Information About the Public Meeting Contact: Paulo Almeida, U.S. Codex Office, 1400 Independence Avenue, SW., Room 4861, Washington, DC 20250, telephone: (202) 205-7760, fax: (202) 720-3157, e-mail: Paulo.Almeida@fsis.usda.gov.

SUPPLEMENTARY INFORMATION:

Background

Codex was established in 1963 by two United Nations organizations, the Food and Agriculture Organization (FAO) and the World Health Organization (WHO). Through adoption of food standards, codes of practice, and other guidelines developed by its committees, and by promoting their implementation by governments, Codex seeks to protect the health of consumers and ensure that fair practices are used in trade.

The CCNFSDU is responsible for:

(a) Studying specific nutritional problems assigned to it by Codex and advising Codex on general nutrition issues;

(b) Drafting general provisions as appropriate, concerning the nutritional aspects of all foods;

(c) Developing standards, guidelines, or related texts for foods for special dietary uses, in cooperation with other committees where necessary; and

(d) Considering, amending if necessary, and endorsing provisions on nutritional aspects proposed for inclusion in Codex standards, guidelines, and related texts.

Issues To Be Discussed at the Public Meeting

The following items on the agenda for the 33rd Session of the CCNFSDU will be discussed during the public meeting:

• Matters Referred to the CCNFSDU by Codex and/or Other Codex Committees.

• Matters of Interest Arising from the FAO and WHO.

• Proposed Draft Additional or Revised Nutrient Reference Values (for Labeling Purposes in the Codex Guidelines on Nutrition Labeling at Step 4).

• Report from FAO and WHO on Nutrient Reference Values.

• Revised Draft of the General Principles for Establishing Nutrient Reference Values for labeling purposes for Nutrients Associated with Risk of Diet-Related Noncommunicable Diseases for the General Population at Step 4 (in light of comments at Step 3).

• Proposed Draft Nutrient Reference Values for Nutrients Associated with Risk of Diet-Related Noncommunicable Diseases.

• Proposed Draft Revision of the Codex General Principles for the Addition of Essential Nutrients to Foods at Step 4.

• Proposed Draft Revision of the Guidelines on Formulated Supplementary Foods for Older Infants and Young Children at Step 4.

• Proposed Draft Amendment of the Standard for Processed Cereal-Based Foods for Infants and Young Children to Include a New Part B for Underweight Children at Step 4.

• Proposal to Review the Codex Standard for Follow-up Formula.

Each issue listed will be fully described in documents distributed, or to be distributed, by the Secretariat prior to the meeting. Members of the public may access copies of these documents (see ADDRESSES).

Public Meeting

At the public meeting, draft U.S. positions on the agenda items will be described and discussed, and attendees will have the opportunity to pose questions and offer comments. Written comments may be offered at the meeting or sent to Barbara Schneeman Ph.D., U.S. Delegate for the 33rd Session of the CCNFSDU at the following address: CCNFSDU@fda.hhs.gov.

Written comments should state that they relate to activities of the 33rd Session of the CCNFSDU.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue, SW., Washington, DC 20250-9410 or call (202) 720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at

http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/.

Options range from recalls, export information, regulations, directives, and notices. Customers can add or delete subscriptions themselves, and have the option to password protect their accounts.

Done at Washington, DC, on: October 5, 2011.
Karen Stuck,
U.S. Manager for Codex Alimentarius.

[FR Doc. 2011-26282 Filed 10-11-11; 8:45 am]

BILLING CODE 3410-DM-P